Title 3—

The President

Memorandum of November 13, 2014

Authorizing the Exercise of Authority Under Public Law 85-804

Memorandum for the Administrator of the United States Agency for International Development

By the authority vested in me as President by the Constitution and the laws of the United States of America, I hereby direct the following:

The Administrator of the United States Agency for International Development (USAID) is authorized to exercise authority under Public Law 85-804, as amended (50 U.S.C. 1431 et seq.), to the same extent and subject to the same conditions and limitations as the head of an executive department or agency listed in section 21 of Executive Order 10789 of November 14, 1958, as amended, with respect to contracts performed in Africa in support of USAID's response to the Ebola outbreak in Africa where the contractor, its employees, or subcontractors will have significant exposure to Ebola. This authority may be exercised solely for the purpose of holding harmless and indemnifying contractors with respect to claims, losses, or damage arising out of or resulting from exposure, in the course of performance of the contracts, to Ebola.

The USAID is exercising functions in connection with the national defense in the course of complying with its humanitarian mandate, and there is a relevant state of national emergency that authorizes use of Public Law 85-804. I deem that the authorization provided in this memorandum and actions taken pursuant to that authorization would facilitate the national defense.

This memorandum is not intended to, and does not, create any right or benefit, substantive or procedural, enforceable at law or in equity by any party against the United States, its departments, agencies, or entities, its officers, employees, or agents, or any other person.

You are hereby authorized and directed to publish this memorandum in the Federal Register.

THE WHITE HOUSE,

Washington, November 13, 2014.

[FR Doc. 2014-27466

Filed 11-17-14; 11:15 am]

Billing code 6116-01